FEDERAL DEPOSIT INSURANCE CORPORATION

Exchange Delisting: Bank of Guam

AGENCY: Federal Deposit Insurance Corporation (FDIC).

ACTION: Notice and request for comments.

SUMMARY: The Federal Deposit Insurance Corporation (FDIC) is publishing for notice and comment that the Bank of Guam, an FDIC Insured state non-member bank, has filed an application with the FDIC to withdraw its common stock from listing and registration on the Pacific Exchange.

DATES: Written comments must be received no later than August 9, 2004.

ADDRESSES: You may submit comments by any of the following methods:

• http://www.fdic.gov/regulations/law/federal/propose.html.

• E-mail: comments@fdic.gov. Include “Exchange Delisting: Bank of Guam” in the subject line of the message.

• Mail: Dennis Chapman, Senior Staff Accountant, the Federal Deposit Insurance Corporation, 550 17th Street, NW, Washington, DC 20429.

• Hand Delivery: Comments may be hand delivered to the guard station at the rear of the 550 17th Street Building (located on F Street) on business days between 7 a.m. and 5 p.m.

Public Inspection: You may inspect comments at the FDIC Public Information Center, Room 100, 801 17th Street, NW, between 9 a.m. and 4:30 p.m. on business days. Information about this notice, including copies of the collected comments, may be obtained by calling or writing the FDIC contact listed above.

SUPPLEMENTARY INFORMATION: Bank of Guam, an FDIC Insured state non-member bank, has filed an application with the FDIC, pursuant to Section 12(i) and (d) of the Securities Exchange Act of 1934 (“Act”) ¹ and Rule 12d2-2(d) thereunder (as authorized by 12 CFR 335.101 and 12 CFR 335.231),² to withdraw its common stock, $ .208 par value (“Security”), from listing and registration on the Pacific Exchange also called the Archipelago Exchange (“Exchange”) operated by PCX Equities, Inc.

¹ 15 U.S.C. 78l (i) and (d).

² 12 CFR 335.101, 12 CFR 335.231 and 17 CFR 240.12d2-2(d).

On March 22, 2004, the Board of Directors (“Board”) of the Issuer approved a resolution to withdraw the Issuer's Security from listing on the Exchange. The Board states that the reasons for such action include: (i) The number of stockholders of record in the Issuer's Security; (ii) the limited extent of trading in the Issuer's Security; and (iii) the material costs of the listing.

The Issuer stated in its application that it has met the requirements of Exchange Rules concerning an issuer's voluntary withdrawal of a security from listing and registration. The Exchange approved the delisting April 22, 2004 and notified the bank of the approval by letter dated April 23, 2004.

The Issuer's application relates solely to the withdrawal of the Security from listing on the Exchange and from registration under Section 12(b) of the Act ³ and shall not affect its obligation to be registered under Section 12(g) of the Act.⁴

³ 15 U.S.C. 78l (b).

⁴ 15 U.S.C. 78l (g).

The FDIC is accepting comments on the Exchange Delisting of the Bank of Guam, and specifically on the facts bearing upon whether the application has been made in accordance with the rules of the Exchange and what terms, if any, should be imposed by the FDIC for the protection of investors. The FDIC, based on the information submitted to it, will issue an order granting the application after the date mentioned above, unless the FDIC determines to order a hearing on the matter.

Dated at Washington, DC, this 1st day of July, 2004.
Federal Deposit Insurance Corporation.
Valerie J. Best,
Assistant Executive Secretary.

[FR Doc. 04-15469 Filed 7-7-04; 8:45 am]

BILLING CODE 6714-01-P